FEDERAL MARITIME COMMISSION

[Petition No. P5-03]

Petition of the National Customs Brokers and Forwarders Association of America, Inc. for Limited Exemption From Certain Tariff Requirements of the Shipping Act of 1984; Extension of Time

The Commission published notice of Petition No. P5-03 filed by the National Customs Brokers and Forwarders Association of America, Inc. (“NCBFAA”), in the Federal Register on August 19, 2003 (68 FR 49775). That notice requested comments to the Petition by September 5, 2003. The World Shipping Counsel (“WSC”) has requested an extension of time until September 24, 2003, for all parties to file comments in reply to this Petition. WSC advises that it has been authorized by NCBFAA's counsel to state that the Petitioner does not object to the requested extension. The Commission has determined to grant the request. Accordingly, comments are now due by September 24, 2003.

By the Commission.
Bryant L. VanBrakle,
Secretary.

[FR Doc. 03-21580 Filed 8-21-03; 8:45 am]

BILLING CODE 6730-01-P